Title 3—

The President

Proclamation 7542 of April 17, 2002

Death of Byron R. White

By the President of the United States of America

A Proclamation

As a mark of respect for the memory of Byron R. White, retired Associate Justice of the Supreme Court of the United States, I hereby order, by the authority vested in me as President by the Constitution and the laws of the United States of America, that the flag of the United States shall be flown at half-staff on the day of his interment. On such day the flag shall be flown at half-staff until sunset upon all public buildings and grounds, at all military posts and naval stations, and on all naval vessels of the Federal Government in the District of Columbia and throughout the United States and its Territories and possessions; and at all U.S. embassies, legations, consular offices, and other facilities abroad, including all military facilities and naval vessels and stations.

IN WITNESS WHEREOF, I have hereunto set my hand this seventeenth day of April, in the year of our Lord two thousand two, and of the Independence of the United States of America the two hundred and twenty-sixth.

B

[FR Doc. 02-9979 Filed 4-19-02; 9:09 am]

BILLING CODE 3195-01-P